DEPARTMENT OF THE INTERIOR

Bureau of Land Management

[ID420 1610 DP 034D]

Notice of Availability of the Cottonwood, ID, Draft Resource Management Plan and Draft Environmental Impact Statement

AGENCY: Bureau of Land Management, Department of the Interior.

ACTION: Notice of availability.

SUMMARY: In accordance with the National Environmental Policy Act of 1969 (NEPA, 42 U.S.C. 4321 et seq.) and the Federal Land Policy and Management Act of 1976 (FLPMA, 43 U.S.C. 1701 et seq.), the Bureau of Land Management (BLM) has prepared a Draft Resource Management Plan/Environmental Impact Statement (RMP/EIS) for the Cottonwood Field Office and by this notice is announcing the opening of the comment period.

DATES: To assure that they will be considered, BLM must receive written comments on the Draft RMP/EIS within 90 days following the date the Environmental Protection Agency publishes their Notice of Availability in the Federal Register. The BLM will announce future meetings or hearings and any other public involvement activities will be announced at least 15 days in advance through public notices, media news releases, and/or mailings, and on the BLM Web site (http://www.blm.gov/rmp/id/cottonwood/).

ADDRESSES: You may submit comments by any of the following methods:

• Web Site: http://www.blm.gov/rmp/id/cottonwood/

• E-mail: comments@cottonwoodrmp.com

• Mail: Attn: RMP, BLM Cottonwood Field Office, 1 Butte Drive, Cottonwood ID 83522-9498

• Fax: (208) 962-3275

FOR FURTHER INFORMATION CONTACT: Carrie Christman at the Cottonwood Field Office (see above address), telephone (208) 962-3245.

SUPPLEMENTARY INFORMATION: The Cottonwood RMP planning area is located in the southern portion of the Idaho panhandle. The BLM administers scattered parcels of lands totaling 143,830 acres within the following Idaho counties: Latah, Clearwater, Nez Perce, Lewis, Idaho and Adams. The Cottonwood Field Office planning area lies within the ceded territory of the Nez Perce Tribe. The Nez Perce Reservation lies within the planning area, and there are about 17,586 acres of BLM-administered land within the reservation boundary. Management of the BLM administered lands will involve trust and treaty resources.

The BLM-administered public lands within the planning area are currently managed in accordance with the decisions of the 1981 Chief Joseph Management Framework Plan (MFP) as amended. BLM will continue to manage these lands in accordance with the MFP and amendments until the Cottonwood RMP is completed and the Record of Decision is signed.

The Cottonwood RMP will provide future broad-scale management direction for land use allocations and allowable uses on public lands within the planning area. In the Draft EIS, four alternatives were analyzed, including a no action alternative. These alternatives were developed through issue identification during the scoping process. Such issues include: Watershed management, forestry, fuels treatments, recreation, land tenure, special designations, invasive plant species, travel management and special status species. The agency preferred alternative is alternative B.

The preferred alternative proposes the designation of five new Areas of Critical Environmental Concern (ACECs) and the continuation of six ACEC/Research Natural Areas (RNAs) totaling 34,528 acres and ranging in size from 18 acres to 16,199 acres. Two existing ACECs totaling 3,986 acres would be dropped under the preferred alternative. Resource use limitations that apply to the proposed ACECs include no surface occupancy for mineral extraction activities and some restrictions on timber harvesting, livestock grazing, and road construction (See Table 1).

Table 1.—Evaluation of Areas of Critical Environmental Concern
Area name | Values of concern | Resource use limitations | Acres | Preferred alternative direction
Wapshilla Ridge (Existing RNA/ACEC—1989) | Natural processes, designated RNA for canyon grasslands and BLM Idaho Watch List plant (Idaho RNA cell for basalts) | 1, 2 | 401 existing | Continue as RNA/ACEC 401 acres.
Lower and Middle Cottonwood Islands (Existing RNA/ACEC—1989) | Natural processes, designated RNA, riparian, Palouse prairie remnant, Clearwater River islands | 3 | 43 existing | Continue as RNA/ACEC 43 acres.
Captain John Creek (Existing RNA/ACEC—1989) | Natural processes, designated RNA for canyon grasslands, Douglas fir, and riparian (Idaho cell). Captain John Creek provides habitat for listed steelhead and spring/summer chinook Salmon, and Idaho BLM sensitive wildlife, amphibians, reptiles, and plants | 1 | 1,321 existing | Continue as RNA/ACEC 1,321 acres.
Long Gulch (Existing RNA/ACEC—1989) | Natural processes, designated RNA for Federally listed MacFarlane's four-o'clock | 4 | 47 existing | Continue as RNA/ACEC 47 acres.
Lucile Caves (Existing RNA/ACEC—1989) | Natural processes, designated RNA, Federally listed MacFarlane's four-o'clock, Idaho BLM sensitive plants, wildlife and snails; limestone cave and spring; geology | 4 | 404 existing | Continue as RNA/ACEC 136 acres/
Skookumchuck (Existing RNA/ACEC—1989) | Natural processes, designated RNA for Federally listed MacFarlane's four-o'clock | 4 | 18 existing | Continue as RNA/ACEC 18 acres.
Craig Mountain (Existing ACEC—1989) | Designated ACEC, scenic, cultural, Federally listed fish, bald eagle, and Spalding's silene; Idaho BLM sensitive wildlife, amphibians, reptiles, and plants | 2 | 3,956 existing | Discontinue ACEC.
Elk City/American Hill Lake (Existing ACEC—1989) | Natural hazards, designated ACEC because of concerns for safety and public welfare | 5, 6 | 30 existing | Discontinue ACEC.
Lower Lolo Creek (Existing ACEC—1989 | Designated ACEC, cultural, scenic, Federally listed fish; Idaho BLM sensitive wildlife, amphibians, reptiles, and plants; National historic trail | 7, 8, 9 | 3,678 existing | Continue as ACEC 3,678 acres.
Lower Salmon River (Confluence to White Bird Creek) (Existing ACEC—1989) | Designated ACEC, cultural, scenic, Federally listed fish, bald eagle, and Spalding's silene; Idaho BLM sensitive wildlife, amphibians, reptiles, and plants; geology, natural processes | 3, 4 | 15,702 existing | Continue as ACEC 16,199 acres.
Upper Lolo Creek | Idaho BLM sensitive wildlife, amphibians, reptiles and plants, cultural, scenic | 7, 10 | 1,625 proposed | Do not add ACEC.
Partridge/Elkhorn | Natural processes, old growth ponderosa pine, Idaho BLM sensitive wildlife | 14 | 576 proposed | Do not add ACEC.
Little Salmon | Natural processes, old growth ponderosa pine, Idaho BLM sensitive wildlife | 14 | 590 proposed | Do not add ACEC.
Upper Salmon River (White Bird Creek to French Creek) | Cultural, scenic, Federally listed fish, bald eagle, and MacFarlane's four-o'clock; Idaho BLM sensitive wildlife, amphibians, reptiles, and plants; geology, natural processes | 4 | 5,759 proposed | Add as ACEC 5,759 acres.
East Fork of American River | Listed fish, Idaho BLM sensitive wildlife, amphibians, reptiles, fish, and plants; natural processes; riparian and wetlands; and old growth Engelmann spruce | 3, 11, 12 | 570 proposed | Add as ACEC 570 acres.
American River Historic Sites District | Cultural resources, historic mining | 13 | 6,356 proposed | Add as ACEC 6,356 acres.
Use Limitations:
1 = Timber harvest only to support stand health.
2 = Exclude livestock grazing.
3 = Prohibit soil or vegetation disturbance not supporting improved condition (long term).
4 = No actions resulting in long-term adverse impacts to listed plants.
5 = Closed to OHV use.
6 = No ground disturbing activities other than rehab.
7 = No construction of hydroelectric facilities.
8 = No new road construction within 300′ of Lolo Creek or on slopes exceeding 50%.
9 = Custodial timber management.
10 = Timber harvest activities on slopes over 50% utilize aerial or high lead systems.
11 = Decommission temporary roads within 3 years of construction.
12 = No road construction within Riparian Conservation Areas.
13 = Use mining plan of operations.
14 = Minimize road construction.

Additionally, BLM would recommend the continuation of the mineral withdrawal of the Lower Salmon River corridor. The preferred alternative recommends four suitable segments of river for inclusion in the National Wild and Scenic River system; one segment (totaling 24 miles) is suitable for inclusion under the scenic classification, three segments (totaling 5.34 miles) are suitable for inclusion under the recreational classification. Resource use limitations that apply to the suitable river segments include no surface occupancy for mineral extraction activities. The 750 acre portion of the Frank Church/River of No Return Wilderness will continue to be managed to maintain wilderness characteristics under all alternatives. Two previously designated Wilderness Study Areas (WSAs) (totaling 10,872 acres) will continue to be managed under the BLM's Interim Management Policy for Lands Under Wilderness Review. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety. A copy of the Draft RMP/EIS is available for review via the Internet Web site at http://www.blm.gov/rmp/id/cottonwood/. You may also obtain a copy on CD-ROM, or paper copy at the BLM Cottonwood Field Office at the address listed above, or by contacting Carrie Christman at (208) 962-3245.

Dated: June 7, 2006.
Bud Cribley,
Acting State Director, Idaho.

[FR Doc. E6-14542 Filed 8-31-06; 8:45 am]

BILLING CODE 4310-GG-P